DEPARTMENT OF TRANSPORTATION

Federal Aviation Administration

Third Party War Risk Liability Insurance

AGENCY: Federal Aviation Administration, DOT.

ACTION: Notice of extension.

SUMMARY: This notice contains the text of a memo from the Secretary of Transportation to the President regarding the extension of the provision of aviation insurance coverage for U.S. flag commercial air carrier service in domestic and international operations.

DATES: Dates of extension from March 21, 2002 through May 19, 2002.

FOR FURTHER INFORMATION CONTACT: Helen Kish, Program Analyst, APO-3, or Eric Nelson, Program Analyst APO-3, Federal Aviation Administration, 800 Independence Ave., SW, Washington, DC 20591, telephone 202-267-9943 or 202-267-3090. Or online at FAA Insurance Web site: http://api.hq.faa.gov/911policies/inscover.html.

SUPPLEMENTARY INFORMATION: On March 19, 2002, the Secretary of Transportation authorized a 60-day extension of aviation insurance provided by the Federal Aviation Administration as follows:

Memorandum To the President

“Pursuant to the authority delegated to me in paragraph (3) of Presidential Determination No. 01-29 of September 23, 2001, I hereby extend that determination to allow for the provision of aviation insurance and reinsurance coverage for U.S. Flag commercial air service in domestic and international operations for an additional 60 days.

Pursuant to section 44306(c) of chapter 443 of 49 U.S.C.—Aviation Insurance, the period for provision of insurance shall be extended from March 21, 2002, through May 19, 2002.”

/s/ Norman Y. Mineta

Affected Public: Air Carriers who currently have Third Party War-Risk Liability Insurance with the Federal Aviation Administration.

Issued in Washington, DC on March 22, 2002.
John M. Rodgers,
Director, Office of Aviation Policy and Plans.

[FR Doc. 02-7483 Filed 3-27-02; 8:45 am]

BILLING CODE 4910-13-M